DEPARTMENT OF COMMERCE

International Trade Administration

University of Connecticut; Notice of Decision on Application for Duty-Free Entry of Scientific Instruments

This is a decision pursuant to Section 6(c) of the Educational, Scientific, and Cultural Materials Importation Act of 1966 (Pub. L. 89-651, as amended by Public Law 106-36; 80 Stat. 897; 15 CFR part 301). On April 11, 2019, the Department of Commerce published a notice in the Federal Register requesting public comment on whether instruments of equivalent scientific value, for the purposes for which the instruments identified in the docket(s) below are intended to be used, are being manufactured in the United States. See Application(s) for Duty-Free Entry of Scientific Instruments, 84 FR 14654 (April 11, 2019) (Notice). We received no public comments. Related records can be viewed between 8:30 a.m. and 5:00 p.m. in Room 3720, U.S. Department of Commerce, 14th and Constitution Ave. NW, Washington, DC

Docket Number: 18-010. Applicant: University of Connecticut, Storrs, CT 06269. Instrument: STED Confocal Microscope. Manufacturer: Abberior Instruments GmBH, Germany. Intended Use: See Notice at 14654. Comments: None received. Decision: Approved. We know of no instruments of equivalent scientific value to the foreign instruments described below, for such purposes as this is intended to be used, that were being manufactured in the United States at the time of order. Reasons: The instrument will be used to study a variety of biological material related to medical research. Scientists at the University of Connecticut will be able to reveal the protein nano-structure of: Mouse/rat brain tissue and cells, mouse colon tissue, fruit fly chromosomes, mouse spinal cord tissue, and mammalian or invertebrate cultured cells. The experiments to be conducted involve taking the material and examining it with various wavelengths of light to obtain fluorescent images of cellular structures with high levels of detail. The objectives pursued by research with this equipment are understanding of the normal and pathological mechanisms of cellular function relating to human health and disease. The techniques used by employing this equipment include using the method of stimulated emission depletion (STED), which enables the visualization of high resolution, microscopic structure of biological specimens.

Dated: June 10, 2019.
Gregory W. Campbell,
Director, Subsidies Enforcement, Enforcement and Compliance.

[FR Doc. 2019-12610 Filed 6-13-19; 8:45 am]

BILLING CODE 3510-DS-P